DEPARTMENT OF THE INTERIOR

Bureau of Land Management

[LLWYD09000.L14400000.FR0000; WYW-171474]

Notice of Realty Action: Recreation and Public Purposes Act Classification of Public Lands in Uinta County, WY

AGENCY: Bureau of Land Management, Interior.

ACTION: Notice.

SUMMARY: The Bureau of Land Management (BLM) has examined and found suitable for classification for conveyance under the provisions of the Recreation and Public Purposes Act (R&PP), as amended, approximately 10 acres of public land in Uinta County, Wyoming. Uinta County, Wyoming, proposes to use the land for an expansion of the Bridger Valley Landfill for a municipal solid waste transfer station.

DATES: Interested parties may submit comments regarding the proposed conveyance or classification of the lands until May 23, 2016.

ADDRESSES: You may submit comments by any of the following methods:

• Mail: Field Manager, Kemmerer Field Office, 430 North Highway 189, Kemmerer, WY 83101.

• Email: Kemmerer_WYMail@blm.gov with “Uinta County R&PP” in the subject line.

Documents pertinent to this proposal may be examined at the Kemmerer Field Office at the above address.

FOR FURTHER INFORMATION CONTACT: Kelly Lamborn, Realty Specialist, BLM Kemmerer Field Office, 430 North Highway 189, Kemmerer, WY 83101; telephone 307-828-4505; email klamborn@blm.gov. Persons who use a telecommunications device for the deaf may call the Federal Information Relay Service (FIRS) at 1-800-877-8339 to contact the above individual during normal business hours. The FIRS is available 24 hours a day, 7 days a week, to leave a message or question with the above individual. You will receive a reply during normal business hours.

SUPPLEMENTARY INFORMATION: In accordance with Section 7 of the Taylor Grazing Act (43 U.S.C. 3150), and Executive Order No. 6910, the following described public land in Uinta County, Wyoming, has been examined and found suitable for classification for conveyance under the provisions of the R&PP, as amended (43 U.S.C. 869 et seq.):

Sixth Principal Meridian, Wyoming

T. 16 N., R. 115 W.,

Sec. 10, N½NE¼SW¼SE¼, N½NW¼SE¼SE¼.

The land described contains 10 acres in Uinta County, Wyoming, according to the official plat of the survey of the said land, on file with the BLM.

In accordance with the R&PP, Uinta County filed an application to purchase the above described 10 acres of public land to be developed as a municipal solid waste transfer station, as an expansion of the existing Bridger Valley Landfill. Additional detailed information pertaining to this application, plan of development, and site plan is in case file WYW-171474, located in the BLM Kemmerer Field Office at the above address.

The conveyance is consistent with the Kemmerer Resource Management Plan (RMP) dated May 2010, as amended by the Approved RMP Amendments for the Rocky Mountain Region (ARMPA) approved September 22, 2015. The proposal is consistent with the objectives, goals, and decision of the 2010 BLM Kemmerer RMP, and would be in the public interest. The ARMPA Management Decision, LR 7, allows for lands within general habitat management areas to be disposed of, as long as the action is consistent with the goals and objectives of the plan, including, but not limited to, the RMP goal to conserve, recover, and enhance sage-grouse habitat on a landscape scale.

The parcel of land is not required for any other Federal purposes and does not contain other known public values. The patent will include an appropriate indemnification claim protecting the United States from claims arising out of the patentee's use occupancy or occupations on the patented lands. The BLM will retain all mineral rights.

Upon publication of this notice in the Federal Register, the lands will be segregated from all forms of appropriation under the public land laws, including the general mining laws, except for conveyance under the R&PP, leasing under the mineral leasing laws, and disposals under the mineral material disposal laws. This segregative effect will end upon issuance of the patent, publication in the Federal Register of a termination of the segregation, or April 9, 2018, unless extended by the BLM State Director in accordance with 43 CFR 2711.1-2(d) prior to the termination date.

The patent, if issued, will be subject to the provisions of the R&PP and applicable regulations of the Secretary of the Interior, and will contain the following reservations to the United States:

1. All minerals, together with the right to prospect for, mine, and remove such deposits from the same under applicable law and such regulations as the Secretary of the Interior may prescribe;

2. A right-of-way thereon for ditches or canals constructed by the authority of the United States pursuant to the Act of August 30, 1890, (43 U.S.C. 945); and

3. All valid existing rights of record, including those documented on the official public land records at the time of patent issuance.

4. An appropriate indemnification clause protecting the United States from claims arising out of the patentee's use, occupancy, or operations on the patented lands.

5. No portion of the land shall under any circumstance revert to the United States if any such portion has been used for solid waste disposal or for any other purpose which may result in the disposal, placement, or release of any hazardous substance.

Detailed information concerning these actions is available for review at the address above during normal business hours, 7:45 a.m. to 4:30 p.m., Monday through Friday, excluding Federal holidays.

Interested parties may submit comments involving the suitability of the lands for a municipal solid waste transfer station. Classification comments are restricted to whether the land is physically suitable for the proposal, whether the use will maximize the future use or uses of the land, whether the use is consistent with local planning and zoning, or if the use is consistent with State and Federal programs.

Interested parties may submit comments regarding the conveyance and specific uses proposed in the application and plan of development, whether the BLM followed proper administrative procedures in reaching the decision to convey under the R&PP, or any other factor not directly related to the suitability of the land for R&PP use.

Interested parties may submit written comments to the BLM Kemmerer Field Manager at the address above. Comments, including names and street addresses of respondents, will be available for public review at the BLM Kemmerer Field Office during regular business hours.

Before including your address, phone number, email address, or other personal identifying information in your comment, you should be aware that your entire comment—including your personal identifying information—may be made publicly available at any time. While you can ask us in your comment to withhold your personal identifying information from public review, we cannot guarantee that we will be able to do so.

Any adverse comments will be reviewed by the State Director, who may sustain, vacate, or modify this realty action. In the absence of timely filed objections, the classification of the land described in this notice will become effective June 7, 2016. The lands will not be available for conveyance until after the classification becomes effective.

Authority: 43 CFR 2741.5(h).

Brian W. Davis,
Acting State Director, Wyoming.

[FR Doc. 2016-08188 Filed 4-7-16; 8:45 am]

BILLING CODE 4310-22-P